DEPARTMENT OF AGRICULTURE

Food and Nutrition Service

7 CFR Parts 210 and 220

[FNS-2007-0038]

RIN 0584-AD59

Nutrition Standards in the National School Lunch and School Breakfast Programs; Approval of Information Collection Request

AGENCY: Food and Nutrition Service, USDA.

ACTION: Final rule; approval of information collection request.

SUMMARY: The Food and Nutrition Service published a final rule entitled “Nutrition Standards in the National School Lunch and School Breakfast Programs” on January 26, 2012. The Office of Management and Budget (OMB) cleared the associated information collection requirements (ICR) on February 1, 2013. This document announces approval of the ICR.

DATES: The ICR associated with the final rule published in the Federal Register on January 26, 2012 at 77 FR 4088 was approved by OMB on February 1, 2013, under OMB Control Number 0584-0006.

FOR FURTHER INFORMATION CONTACT: Requests for additional information or copies of this information collection should be directed to Jon Garcia, Program Analysis and Monitoring Branch, Child Nutrition Division, 3101 Park Center Drive, Alexandria, VA 22302.

SUPPLEMENTARY INFORMATION: The January 2012 final rule updates the meal patterns and nutrition standards for the National School Lunch and School Breakfast Programs to align them with the Dietary Guidelines for Americans. This rule requires most schools to increase the availability of fruits, vegetables, whole grains, and fat-free and low-fat fluid milk in school meals; reduce the levels of sodium, saturated fat and trans fat in meals; and meet the nutrition needs of school children within their calorie requirements. These improvements to the school meal programs, largely based on recommendations made by the Institute of Medicine of the National Academies, are expected to enhance the diet and health of school children, and help mitigate the childhood obesity trend. The proposed rule took comments on the associated ICR until March 14, 2011. Compliance with provisions of this rule is effective from July 1, 2012. This document announces OMB's approval of the ICR under OMB Control Number 0584-0006.

Dated: June 26, 2013.
Audrey Rowe,
Administrator, Food and Nutrition Service.

[FR Doc. 2013-16278 Filed 7-5-13; 8:45 am]

BILLING CODE P